DEPARTMENT OF LABOR

Employment and Training Administration

[TA-W-59,530]

Johnson Controls, Inc.; Interiors Division; Holland, MI; Notice of Termination of Investigation

Pursuant to section 221 of the Trade Act of 1974, as amended, an investigation was initiated on June 7, 2006 in response to a worker petition filed by a company official on behalf of workers of Johnson Controls, Inc., Interiors Division, Holland, Michigan.

The petitioner has requested that the petition be withdrawn at this time. Consequently, the investigation has been terminated.

Signed at Washington, DC this 29th day of June 2006.
Linda G. Poole,
Certifying Officer, Division of Trade Adjustment Assistance.

[FR Doc. E6-11863 Filed 7-24-06; 8:45 am]

BILLING CODE 4510-30-P